DEPARTMENT OF COMMERCE

Submission for OMB Review; Comment Request

The Department of Commerce will submit to the Office of Management and Budget (OMB) for clearance the following proposal for collection of information under the provisions of the Paperwork Reduction Act (44 U.S.C. Chapter 35).

Agency: Bureau of Industry and Security (BIS).

Title: Foreign Availability Procedures.

OMB Control Number: 0694-0004.

Form Number(s): N/A.

Type of Request: Regular submission (extension of a currently approved information collection).

Number of Respondents: 2.

Average Hours per Response: 255.

Burden Hours: 510.

Needs and Uses: This information is collected in order to respond to requests by Congress and industry to make foreign availability determinations in accordance with Section 768 of the Export Administration Regulations. Exporters are urged to voluntarily submit data to support the contention that items controlled for export for national security reasons are available—in-fact, from a non-U.S. source, in sufficient quantity and of comparable quality so as to render the control ineffective.

Affected Public: Businesses and other for-profit organizations.

Frequency: On occasion.

Respondent's Obligation: Voluntary.

Copies of the above information collection proposal can be obtained by calling or writing Jennifer Jessup, Departmental Paperwork Clearance Officer, (202) 482-0336, Department of Commerce, Room 6616, 14th and Constitution Avenue NW., Washington, DC 20230 (or via the Internet at JJessup@doc.gov.

Written comments and recommendations for the proposed information collection should be sent within 30 days of publication of this notice to Jasmeet Seehra, OMB Desk Officer by email to Jasmeet_K._Seehra@omb.eop.gov, or by fax to (202) 395-5167.

Dated: November 18, 2013.
Gwellnar Banks,
Management Analyst, Office of the Chief Information Officer.

[FR Doc. 2013-28010 Filed 11-21-13; 8:45 am]

BILLING CODE 3510-33-P